DEPARTMENT OF HEALTH AND HUMAN SERVICES

Substance Abuse and Mental Health Services Administration

Advisory Committee for Women's Services; Notice of a Meeting

Pursuant to Public Law 92-463, notice is hereby given of a meeting of the Substance Abuse and Mental Health Services Administration (SAMHSA) Advisory Committee for Women's Services on September 24-25, 2007.

The meeting is open and will include a report from the SAMHSA Administrator, Dr. Terry L. Cline. The meeting will focus on wellness issues as they relate to women and girls with or at risk for mental and substance use disorders, and include presentations from national stakeholders and SAMHSA grantees. In addition, there will be presentations on criminal justice and women, the Suicide Prevention Campaign, and updates on SAMHSA's Campus Suicide Prevention Grants Program and the National Suicide Prevention Lifeline for Veterans.

Attendance by the public will be limited to the space available. Public comments are welcome. Please communicate with the Committee's Executive Secretary, Ms. Carol Watkins (see contact information below), to make arrangements to comment or to request special accommodations for persons with disabilities.

Substantive program information, a summary of the meeting, and a roster of Committee members may be obtained either by accessing the SAMHSA Committee's Web site at https://www.nac.samhsa.gov/ as soon as possible after the meeting, or by contacting Ms. Watkins. The transcript for the meeting will also be available on the SAMHSA Committee's Web site within three weeks after the meeting.

Committee Name: SAMHSA Advisory Committee for Women's Services.

Date/Time/Type: Monday, September 24, 2007, from 9 a.m. to 5 p.m.: Open; Tuesday, September 25, 2007, from 9 a.m. to 12 p.m.: Open.

Place: 1 Choke Cherry Road, Sugarloaf Conference Room, Rockville, Maryland 20857.

Contact: Carol Watkins, Executive Secretary, SAMHSA Advisory Committee for Women's Services, 1 Choke Cherry Road, Room 8-1002, Rockville, Maryland 20857, Telephone: (240) 276-2254; Fax: (240) 276-1024 and e-mail: carol.watkin2@samhsa.hhs.gov.

Dated: September 5, 2007.
Toian Vaughn,
Committee Management Officer, Substance Abuse and Mental Health Services Administration.

[FR Doc. E7-17951 Filed 9-11-07; 8:45 am]

BILLING CODE 4162-20-P